DEPARTMENT OF JUSTICE

Notice of Lodging of Settlement Agreement Under the Clean Air Act

Notice is hereby given that on August 7, 2014, a proposed Consent Decree in United States v. Coyne International Enterprises Corp., No. 1:14-cv-13260, was lodged with the United States District Court for the District of Massachusetts. The United States filed this action, on the same day that the Consent Decree was lodged with the Court, under the Clean Air Act, 42 U.S.C. 7401 et seq. Coyne International Enterprises Corp. (“Coyne”) operates an industrial laundry facility in New Bedford, Massachusetts (“Facility”). The Complaint alleges that Coyne violated the Clean Air Act by constructing the Facility in 1994, and by modifying the Facility in 2005, without first obtaining a permit authorizing such construction or modification in accordance with the nonattainment New Source Review provisions of the Clean Air Act, 42 U.S.C. 7501-7515.

The Consent Decree requires Coyne to pay a $50,000 civil penalty. The Consent Decree also requires Coyne to commence the operation of a Volatile Organic Compound (“VOC”) control system at the Facility that will achieve at least a 50% reduction of VOC emissions associated with the laundering of print and furniture towels by December 31, 2014 or, in the alternative, to cease the laundering of print and furniture towels at the Facility as of that date until such a control system is installed. The Consent Decree resolves the civil claims of the United States for the violations alleged in the Complaint as well as in the Notice of Violation issued by the Environmental Protection Agency to Coyne on August 11, 2011, through the date of lodging of the Consent Decree.

The publication of this notice opens a period for public comment on the Consent Decree. Comments should be addressed to the Assistant Attorney General, Environment and Natural Resources Division, and should refer to United States v. Coyne International Enterprises Corp., D.J. Ref. No. 90-5-2-1-10426. All comments must be submitted no later than 30 days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $5.75 (25 cents per page reproduction cost) payable to the United States Treasury.

Maureen Katz,
Assistant Section Chief, Environmental Enforcement Section, Environment and Natural Resources Division.

[FR Doc. 2014-19113 Filed 8-12-14; 8:45 am]

BILLING CODE 4410-15-P